DEPARTMENT OF TRANSPORTATION

Office of the Secretary

Aviation Proceedings, Agreements Filed During the Week Ending September 29, 2000

The following Agreements were filed with the Department of Transportation under the provisions of 49 U.S.C. 412 and 414. Answers may be filed within 21 days after the filing of the application.

Docket Number: OST-2000-8019.

Date Filed: September 25, 2000.

Parties: Members of the International Air Transport Association.

Subject: PTC3 0449 dated 26 September 2000, Mail Vote 086—Resolution 010g, TC3 Special Passenger Amending Resolution between Korea and South East Asia, Intended effective date: 1 October 2000.

Docket Number: OST-2000-8020.

Date Filed: September 25, 2000.

Parties: Members of the International Air Transport Association.

Subject: PTC1 0155 dated 18 August 2000, TC1 Within South America Resolutions r1-r12, PTC1 0153 dated 18 August 2000, TC1 Caribbean Resolutions r1-r12, Minutes—PTC1 0158 dated 12 September 2000, Tables—PTC1 Fares 0045 dated 1 September 2000, TC1 Within South America Specified Fares Tables, PTC1 Fares 0044 dated 1 September 2000, TC1 Caribbean Specified Fares Tables Intended effective date: 1 January 2001.

Docket Number: OST-2000-8021.

Date Filed: September 25, 2000.

Parties: Members of the International Air Transport Association.

Subject: PTC1 0152 dated 18 August 2000, TC1 Areawide Resolutions r1-r7, PTC1 0154 dated 18 August 2000, TC1 Longhaul (except between USA and Chile), Resolutions r8-r-56, Minutes—PTC1 0158 dated 12 September 2000, PTC1 0159 dated 19 September 2000, TC1 Longhaul (USA-Chile) Policy Group Report, Tables—PTC1 Fares 0046 dated 1 September 2000, Intended effective date: 1 January 2001.

Docket Number: OST-2000-8022.

Date Filed: September 26, 2000.

Parties: Members of the International Air Transport Association.

Subject: PTC2 EUR 0334 dated 19 September 2000, TC2 Within Europe Expedited Resolutions r1-r15, Minutes—PTC2 EUR 0332 dated 12 September 2000, Intended effective date: 15 October 2000.

Docket Number: OST-2000-8023.

Date Filed: September 26, 2000.

Parties: Members of the International Air Transport Association.

Subject: PTC2 EUR 0335 dated 19 September 2000, TC2 Within Europe Expedited Resolutions r1-r3, PTC2 EUR 0336 dated 19 September 2000, TC2 Within Europe Expedited Resolution 002LL r-4, PTC2 EUR 0337 dated 19 September 2000, TC2 Within Europe Expedited Resolutions r5-r9, Minutes—PTC2 EUR 0332 dated 12 September 2000, Tables—No Tables, Intended effective dates: 1 November 2000, 1 December 2000, 1 January 2001.

Docket Number: OST-2000-8024.

Date Filed: September 26, 2000.

Parties: Members of the International Air Transport Association.

Subject: PTC23 EUR-JK 0057 dated 22 September 2000 and PTC23 EUR-JK 0058 dated 22 September 2000, Expedited Europe-Japan/Korea Resolutions, Intended effective date: 1 November 2000 and 1 January 2001.

Docket Number: OST-2000-8031.

Date Filed: September 28, 2000.

Parties: Members of the International Air Transport Association.

Subject: PTC COMP 0692 dated 29 September 2000, Mail Vote 087—TC2/TC23 Special Passenger Amending Resolution to/from Libya, Intended effective date: 15 October 2000.

Docket Number: OST-2000-8035.

Date Filed: September 29, 2000.

Parties: Members of the International Air Transport Association.

Subject: PTC23 ME-TC3 0103 dated 26 September 2000, Expedited Middle East-TC3 Resolutions r1-8, Intended effective date: 1 November 2000.

Dorothy Y. Beard,
Federal Register Liaison.

[FR Doc. 00-28252 Filed 11-2-00; 8:45 am]

BILLING CODE 4910-62-P